DEPARTMENT OF HEALTH AND HUMAN SERVICES

Centers for Disease Control and Prevention

[Docket Number CDC-2018-0038, NIOSH-312]

Research Plan, Continuing To Protect the Nanotechnology Workforce: NIOSH Nanotechnology Research Plan for 2018-2025

AGENCY: National Institute for Occupational Safety and Health (NIOSH) of the Centers for Disease Control and Prevention (CDC), Department of Health and Human Services (HHS).

ACTION: Request for comment.

SUMMARY: The National Institute for Occupational Safety and Health of the Centers for Disease Control and Prevention announces the availability of a draft research plan entitled Continuing To Protect the Nanotechnology Workforce: NIOSH Nanotechnology Research Plan for 2018-2025 for public comment. To view the notice and related materials, visit https://www.regulations.gov and enter CDC-2018-0038 in the search field and click “Search.”

DATES: Electronic or written comments must be received by June 25, 2018.

ADDRESSES: You may submit comments, identified by CDC-2018-0038 and docket number NIOSH-312, by any of the following methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All submissions received in response to this notice must include the agency name and docket number [CDC-2018-0038; NIOSH-312]. All relevant comments received will be posted without change to https://www.regulations.gov, including any personal information provided. For access to the docket to read background documents or comments received, go to https://www.regulations.gov. All information received in response to this notice will also be available for public examination and copying at the NIOSH Docket Office, 1150 Tusculum Avenue, Room 155, Cincinnati, OH 45226-1998.

FOR FURTHER INFORMATION CONTACT: Charles L. Geraci (CGeraci@cdc.gov), National Institute for Occupational Safety and Health, Centers for Disease Control and Prevention, 1090 Tusculum Avenue, MS C-14, Cincinnati, OH 45226, phone (513) 533-8339 (not a toll free number).

SUPPLEMENTARY INFORMATION: NIOSH is seeking stakeholder input on the draft document Continuing To Protect the Nanotechnology Workforce: NIOSH Nanotechnology Research Plan for 2018-2025, to ensure that the program is meeting the needs of the stakeholders, and to identify ways in which the program can be improved to increase its impact on the safety and health of nanomaterial workers across the United States.

Background: Since 2004, NIOSH has pioneered research on the toxicological properties and characteristics of nanoparticles. This research has involved characterizing occupationally relevant nanoparticles for predicting whether these particles pose a risk of adverse health effects and for providing guidance on controlling workplace exposures. In September 2005, NIOSH developed its first nanotechnology strategic plan to further guide the Institute in identifying and prioritizing nanotechnology research. This strategic plan was updated in 2009 [https://www.cdc.gov/niosh/docs/2010-105/pdfs/2010-105.pdf] and again in 2013 [https://www.cdc.gov/niosh/docs/2014-106/pdfs/2014-106.pdf]. NIOSH would like to build on the accomplishments of ongoing research to develop the next strategic research goals and objectives for 2018-2025. NIOSH has identified 10 critical research areas for nanotechnology research and communication. These 10 critical research areas are: (1) Toxicity and internal dose, (2) measurement methods, (3) exposure assessment, (4) epidemiology and surveillance, (5) risk assessment, (6) engineering controls and personal protective equipment (PPE), (7) fire and explosion safety, (8) recommendations and guidance, (9) global collaborations, and (10) applications and informatics.

NIOSH is considering focusing the overarching strategic research goals for these critical areas on 5 key goals: (1) Increase understanding of new hazards and related health risks to nanomaterial workers, (2) expand understanding of the initial hazard findings of engineered nanomaterials, (3) support the creation of guidance materials to inform nanomaterial workers, employers, health professionals, regulatory agencies, and decision makers about hazards, risks and risk management approaches, (4)support epidemiologic studies for nanomaterial workers including medical and exposure studies, and (5) assess and promote national adherence with risk management guidance.

Public comments are requested, including those expressing support or with specific suggestions to improve the Research plan. A copy of the draft Research plan is available at https://www.regulations.gov (see Docket Number CDC-2018-0038).

Dated: April 19, 2018.
John J. Howard,
Director, National Institute for Occupational Safety and Health, Centers for Disease Control and Prevention.

[FR Doc. 2018-08472 Filed 4-23-18; 8:45 am]

BILLING CODE 4163-19-P